DEPARTMENT OF STATE

[Public Notice 10172]

Notice of Public Meeting

SUMMARY: As required by the Federal Advisory Committee Act, Public Law 92-463, the Department of State gives notice of a meeting of the Advisory Committee on International Postal and Delivery Services. This Committee will meet on Wednesday, November 1, 2017, from 1:00 p.m. to 5:00 p.m. Eastern Time in the American Institute of Architects Board Room at 1735 New York Avenue NW., Washington, DC 20006.

Any member of the public interested in providing input to the meeting should contact Ms. Shereece Robinson, whose contact information is listed below (see the “for further information” section of this notice). Each individual providing oral input is requested to limit his or her comments to five minutes. Requests to be added to the speakers list must be received in writing (letter or email) prior to the close of business on Wednesday, October 25, 2017; written comments from members of the public for distribution at this meeting must reach Ms. Robinson by letter or email on this same date. A member of the public requesting reasonable accommodation should also make his/her request to Ms. Robinson by October 25. Requests received after that date will be considered but might not be able to be fulfilled.

The agenda of the meeting will include Universal Postal Union Postal Operations Council and Council of Administration fall session outcomes and implementation of the Integrated Product Plan to modernize and integrate the UPU's international mail product categories and associated remuneration systems.

FOR FURTHER INFORMATION CONTACT: Please contact Ms. Shereece Robinson of the Office of Specialized and Technical Agencies (IO/STA), Bureau of International Organization Affairs, U.S. Department of State, at tel. (202) 663-2649, by email at RobinsonSA2@state.gov, or by mail at IO/STA, Suite L-409 SA-1; U.S. Department of State; Washington, DC 20522.

Joseph P. Murphy,
Designated Federal Officer, Advisory Committee on International Postal and Delivery Services, Office of Specialized and Technical Agencies, Bureau of International Organization Affairs, Department of State.

[FR Doc. 2017-22488 Filed 10-16-17; 8:45 am]

BILLING CODE 4710-19-P